DEPARTMENT OF LABOR

Labor Advisory Committee for Trade Negotiations and Trade Policy; Meeting Notice

Pursuant to the provisions of the Federal Advisory Committee Act (Pub. L. 92-463, as amended), notice is hereby given of a meeting of the Labor Advisory Committee for Trade Negotiation and Trade Policy.

Date, time, place: November 29, 2005; 3-5 p.m.; Lincoln Room of the White House Conference Center, 726 Jackson Place, NW., Washington, DC.

Purpose: The meeting will include a review and discussion of current issues which influence U.S. trade policy. Potential U.S. negotiating objectives and bargaining positions in current and anticipated trade negotiations will be discussed. Pursuant to 19 U.S.C. 2155(f) it has been determined that the meeting will be concerned with matters the disclosure of which would seriously compromise the Government's negotiating objectives or bargaining positions. Accordingly, the meeting will be closed to the public. See section 10(d) of the Federal Advisory Committee Act, 5 U.S.C. app., and section (c)(9)(B) of the Government in the Sunshine Act, 5 U.S.C. 552b(c)(9)(B).

FOR FURTHER INFORMATION CONTACT: Gregory Schoepfle, Acting Director, Office of International Economic Affairs; Phone: (202) 693-4887.

Signed at Washington, DC, this 4th day of November 2005.
Martha Newton,
Acting Deputy Under Secretary, International Labor Affairs.

[FR Doc. 05-22526 Filed 11-10-05; 8:45 am]

BILLING CODE 4510-28-P